DEPARTMENT OF ENERGY

Federal Energy Regulatory Commission

Combined Notice of Filings #2

Take notice that the Commission received the following electric rate filings:

Docket Numbers: ER13-1402-003.

Applicants: Arizona Public Service Company.

Description: Request to Change Effective Date of Cancellation for Rate Schedule No. 38 of Arizona Public Service Company.

Filed Date: 12/18/13.

Accession Number: 20131218-5241.

Comments Due: 5 p.m. ET 1/2/14.

Docket Numbers: ER13-2481-001.

Applicants: Duke Energy Progress, Inc., Duke Energy Florida, Inc., Duke Energy Carolinas, LLC.

Description: Duke Energy Progress, Inc. submits OATT Name Change Amendment (Deficiency Letter) to be effective 11/29/2013.

Filed Date: 12/19/13

Accession Number: 20131219-5062

Comments Due: 5 p.m. ET 1/9/14.

Docket Numbers: ER14-371-001.

Applicants: El Paso Electric Company.

Agenda: El Paso Electric Company submits OATT Order No. 764 Compliance Filing to be effective 1/11/2014.

Filed Date: 12/19/13.

Accession Number: 20131219-5113.

Comments Due: 5 p.m. ET 1/9/14.

Docket Numbers: ER14-707-000.

Applicants: ISO New England Inc., New England Power Pool Participants Committee.

Description: ISO New England Inc. submits MR1 Rev. to Rel. Dual-Fuel Switch Prov. from App.K to III.1 to be effective 3/1/2014.

Filed Date: 12/19/13.

Accession Number: 20131219-5042.

Comments Due: 5 p.m. ET 1/9/14.

Docket Numbers: ER14-708-000.

Applicants: ISO New England Inc., Bangor Hydro Electric Company.

Description: ISO New England Inc. submits Bangor Hydro Name Change to be effective 1/1/2014.

Filed Date: 12/19/13.

Accession Number: 20131219-5079.

Comments Due: 5 p.m. ET 1/9/14.

Docket Numbers: ER14-709-000.

Applicants: PJM Interconnection, L.L.C.

Description: PJM Interconnection, L.L.C. submits Queue Position V4-023; Original Service Agreement No. 3674 to be effective 11/21/2013.

Filed Date: 12/19/13.

Accession Number: 20131219-5080.

Comments Due: 5 p.m. ET 1/9/14.

Docket Numbers: ER14-710-000.

Applicants: PacifiCorp.

Description: PacifiCorp submits OATT Revised Schedules 3 and 3A Order 784 Compliance Filing to be effective 2/26/2014.

Filed Date: 12/19/13.

Accession Number: 20131219-5097.

Comments Due: 5 p.m. ET 1/9/14.

Docket Numbers: ER14-711-000.

Applicants: Public Service Company of Colorado.

Description: Public Service Company of Colorado submits 2013-12-19_PSCo-WAPA-NITS-NOA-LTFP2P-0.0.0—Filing to be effective 12/1/2013.

Filed Date: 12/19/13.

Accession Number: 20131219-5102.

Comments Due: 5 p.m. ET 1/9/14.

Docket Numbers: ER14-712-000.

Applicants: Public Service Company of Colorado.

Description: Public Service Company of Colorado submits 2013-12-19_PSCo WAPA-TSA-376-0.0.0-filing to be effective 12/1/2013.

Filed Date: 12/19/13.

Accession Number: 20131219-5103.

Comments Due: 5 p.m. ET 1/9/14.

Docket Numbers: ER14-713-000.

Applicants: ISO New England Inc.

Description: ISO New England Inc. submits Conforming Filing of Effective Language to be effective 12/17/2013.

Filed Date: 12/19/13.

Accession Number: 20131219-5125.

Comments Due: 5 p.m. ET 1/9/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2013.
Nathaniel J. Davis, Sr.,
Deputy Secretary.

[FR Doc. 2013-31123 Filed 12-27-13; 8:45 am]

BILLING CODE 6717-01-P